DEPARTMENT OF COMMERCE

International Trade Administration

[A-201-830]

Carbon and Certain Alloy Steel Wire Rod From Mexico: Final Results of Antidumping Duty Administrative Review; 2013-2014

AGENCY: Enforcement and Compliance, International Trade Administration, U.S. Department of Commerce.

SUMMARY: On November 10, 2015, the Department of Commerce (the Department) published the preliminary results of the administrative review of the antidumping duty order on carbon and certain alloy steel wire rod (wire rod) from Mexico. The period of review (POR) is October 1, 2013, through September 30, 2014, and the review covers two producers/exporters of subject merchandise: ArcelorMittal Las Truchas, S.A. de C.V. (AMLT) and Deacero S.A.de C.V.¹

¹ During this administrative review, we also examined Deacero USA, Inc., the U.S.-based affiliate of Deacero S.A. de C.V. We refer to these two companies collectively as Deacero.

Based on our analysis of the comments received, we made certain changes in the margin calculations. The final results, consequently, differ from the preliminary results. The final weighted-average dumping margins for the reviewed producers/exporters are listed below in the section entitled “Final Results of Review.”

DATES: Effective May 19, 2016.

FOR FURTHER INFORMATION CONTACT: James Terpstra (for Deacero) and Jolanta Lawska (for AMLT), AD/CVD Operations, Office III, Enforcement and Compliance, International Trade Administration, U.S. Department of Commerce, 14th Street and Constitution Avenue NW., Washington DC 20230; telephone: 202-482-3965 and 202-482-8362, respectively.

SUPPLEMENTARY INFORMATION:

Background

On November 10, 2015, the Department published in the Federal Register the Preliminary Results of the antidumping duty administrative review of wire rod from Mexico.² We invited interested parties to comment on our Preliminary Results. On December 10, 2015, the Department received case briefs from Deacero, AMLT,³ Gerdau Ameristeel USA, INC., and ArcelorMittal USA LLC, (collectively, Petitioners), and Nucor Corporation (Nucor).⁴ On December 21, 2015, all parties submitted rebuttal briefs. On January 12, 2016, the Department extended the deadline for the final results of this administrative review until May 9, 2016,⁵ which the Department tolled to May 13, 2016.⁶ The Department conducted this administrative review in accordance with section 751 of the Tariff Act of 1930, as amended (the Act).

² See Carbon and Certain Alloy Steel Wire Rod from Mexico: Preliminary Results of Antidumping Duty Administrative Review; 2013-2014, 80 FR 69641 (November 10, 2014) (Preliminary Results) and accompanying Issues and Decision Memorandum (Preliminary Decision Memorandum).

³ The Department rejected AMLT's originally filed case brief because it contained untimely filed new factual information. See Memorandum “Rejection of Case Brief Submitted by AMLT” dated January 11, 2016. On January 20, 2016, AMLT submitted a revised case brief.

⁴ Nucor Corporation (Nucor) is a domestic interested party.

⁵ See Memorandum to Christian Marsh, Deputy Assistant Secretary for Antidumping and Countervailing Duty Operations from Erin Begnal, Director, Antidumping and Countervailing Duty Operations, Office III through Eric B. Greynolds, Program Manager, Antidumping and Countervailing Duty Operations, Office III regarding Antidumping Duty Administrative Review: Carbon and Certain Alloy Steel Wire Rod from Mexico: Extension of Time Limit for Final Results dated January 12, 2016.

⁶ As explained in the memorandum from the Acting Assistant Secretary for Enforcement and Compliance, the Department exercised its discretion to toll all administrative deadlines due to the closure of the Federal Government. See memorandum from Ron Lorentzen, Acting Assistant Secretary for Enforcement & Compliance, “Tolling of Administrative Deadlines as a Result of the Government Closure During Snowstorm Jonas,” dated January 27, 2016, in which the Department extended all deadlines in this segment of the proceeding by four business days. Pursuant to this memorandum, the revised deadline for the preliminary results is May 13, 2016.

Period of Review

The POR covered by this review is October 1, 2013, through September 30, 2014.

Scope of the Order

The merchandise subject to this order is carbon and certain alloy steel wire rod. The product is currently classified under the Harmonized Tariff Schedule of the United States (HTSUS) item numbers 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059. Although the HTS numbers are provided for convenience and customs purposes, the written product description remains dispositive.⁷

⁷ For a complete description of the scope of the order, see Decision Memorandum for Final Results of 2013/14 Antidumping Duty Administrative Review: Carbon and Certain Alloy Steel Wire Rod from Mexico (Final Decision Memorandum), dated concurrently with and hereby adopted by this notice.

Analysis of Comments Received

All issues raised in the case and rebuttal briefs by parties to this proceeding are addressed in the Issues and Decision Memorandum. A list of the issues that parties raised and to which we responded is attached to this notice as an Appendix. The Issues and Decision Memorandum is a public document and is on file electronically via Enforcement and Compliance's Antidumping and Countervailing Duty Centralized Electronic Service System (ACCESS). ACCESS is available to registered users at http://access.trade.gov and in the Central Records Unit (CRU), Room B8024 of the main Department of Commerce building. In addition, a complete version of the Issues and Decision Memorandum can be accessed directly on the Internet at http://trade.gov/enforcement. The signed Issues and Decision Memorandum and the electronic versions of the Issues and Decision Memorandum are identical in content.

Changes Since the Preliminary Results

Based on our analysis of the comments received, we made certain changes to the calculations. These changes are fully discussed in the Issues and Decision Memorandum and the Calculation Memoranda for the final results.⁸

⁸ See “Final Results in the 9th Administrative Review on Carbon and Certain Alloy Steel Wire Rod from Mexico: Calculation Memorandum for Deacero S.A. de C.V. and Deacero USA, Inc. (collectively, Deacero),” from James Terpstra, Senior International Trade Analyst, AD/CVD Operations, Office III, to The File, through Eric B. Greynolds, Program Manager, AD/CVD Operations, Office III, and “Final Results in the 9th Administrative Review on Carbon and Certain Alloy Steel Wire Rod from Mexico: Calculation Memorandum for ArcelorMittal Las Truchas, S.A. de C.V. (AMLT)” from Jolanta Lawska, International Trade Analyst, AD/CVD Operations, Office III, to The File, through Eric B. Greynolds, Program Manager, AD/CVD Operations, Office III, dated concurrently with this notice (collectively, Calculation Memoranda for Final Results).

Final Results of Review

As a result of this review, we determine that the following margins for the POR:

Producer/exporter | Weighted-average dumping margin (percent)
Deacero S.A. de C.V | 1.54
ArcelorMittal Las Truchas, S.A. de C.V | 2.59

Assessment Rates

Pursuant to section 751(a)(2)(A) of the Act, and 19 CFR 351.212(b), the Department has determined, and U.S. Customs and Border Protection (CBP) shall assess, antidumping duties on all appropriate entries of subject merchandise in accordance with the final results of this review.⁹ For any individually examined respondents whose weighted-average dumping margin is above de minimis, we calculated importer-specific ad valorem assessment rates based on the ratio of the total amount of dumping calculated for the importer's examined sales to the total entered value of those same sales in accordance with 19 CFR 351.212(b)(1). Upon issuance of the final results of this administrative review, if any importer-specific assessment rates calculated in the final results are above de minimis (i.e., at or above 0.5 percent), the Department will issue instructions directly to CBP to assess antidumping duties on appropriate entries.

⁹ For assessment purposes, the Department applied the assessment rate calculation method adopted in Antidumping Proceedings: Calculation of the Weighted-Average Dumping Margin and Assessment Rate in Certain Antidumping Proceedings: Final Modification, 77 FR 8101 (February 14, 2012).

The Department intends to issue assessment instructions to CBP 15 days after the date of publication of these final results of review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rates for Deacero and AMLT will be the rates established in the final results of this administrative review; (2) for merchandise exported by manufacturers or exporters not covered in this administrative review but covered in a prior segment of the proceeding, the cash deposit rate will continue to be the company-specific rate published for the most recent period; (3) if the exporter is not a firm covered in this review, a prior review, or the original investigation, but the manufacturer is, the cash deposit rate will be the rate established for the most recent period for the manufacturer of the merchandise; and (4) the cash deposit rate for all other manufacturers or exporters will continue to be 20.11 percent, the all-others rate established in the investigation.¹⁰ These cash deposit requirements, when imposed, shall remain in effect until further notice.

¹⁰ See Notice of Antidumping Duty Orders: Carbon and Certain Alloy Steel Wire Rod from Brazil, Indonesia, Mexico, Moldova, Trinidad and Tobago, and Ukraine, 67 FR 65945 (October 29, 2002).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: May 13, 2016.
Paul Piquado,
Assistant Secretary for Enforcement and Compliance.

Appendix I—List of Topics Discussed in the Final Decision Memorandum

I. Summary

II. Background

III. List of Comments

Deacero

Comment 1: Adjustment to the General and Administrative (G&A) Expense Ratio

Comment 2: Whether the Department Erred in the Net Comparison-Market Price (CMNETPRI) Calculation

Comment 3: Whether the Department Erred in Currency Conversion Calculation

Comment 4: Treatment of Inland Insurance Verification Corrections

Comment 5: Nucor's Clerical Error Corrections

Comment 6: Whether to Disallow Certain Post-Sale Price Adjustments

Comment 7: Whether Deacero Engaged in “Targeted Dumping”

AMLT

Comment 8: Whether AMLT's Depreciation Should Be Adjusted to Reflect Mexican Generally Accepted Accounting Principles (GAAP)

Comment 9: Treatment of AMLT's Fixed Overhead Costs

Comment 10: Treatment of AMLT's Additional Mexican GAAP Costs

IV. Scope of the Order

V. Discussion of Comments

VI. Recommendation

[FR Doc. 2016-11858 Filed 5-18-16; 8:45 am]

BILLING CODE 3510-DS-P